DEPARTMENT OF THE INTERIOR

National Park Service

[NPS-WASO-NAGPRA-NPS0035910; PPWOCRADN0-PCU00RP14.R50000]

Notice of Inventory Completion: Appalachian State University, Boone, NC

AGENCY: National Park Service, Interior.

ACTION: Notice.

SUMMARY: In accordance with the Native American Graves Protection and Repatriation Act (NAGPRA), Appalachian State University has completed an inventory of human remains and associated funerary objects and has determined that there is no cultural affiliation between the human remains and associated funerary objects and any Indian Tribe. The human remains and associated funerary objects were removed from Watauga County, NC, and from an unknown site or sites in one or more of the following counties: Ashe County, NC; Avery County, NC; Caldwell County, NC; Watauga County, NC; Wilkes County, NC; Carter County, TN; and Johnson County, TN.

DATES: Disposition of the human remains and associated funerary objects in this notice may occur on or after June 23, 2023.

ADDRESSES: Dr. Alice Wright, Associate Professor, Appalachian State University, Department of Anthropology, ASU Box 32016, 322 Anne Belk Hall, Boone, NC 28608, telephone (828) 262-6384, email wrightap2@appstate.edu.

SUPPLEMENTARY INFORMATION: This notice is published as part of the National Park Service's administrative responsibilities under NAGPRA. The determinations in this notice are the sole responsibility of Appalachian State University. The National Park Service is not responsible for the determinations in this notice. Additional information on the determinations in this notice, including the results of consultation, can be found in the inventory or related records held by Appalachian State University.

Description

In the early 1970s, human remains representing, at minimum, one individual were removed from the Ward site in Watauga County, NC, by Appalachian State University archeologists under the direction of Harvard Ayers. The Ward site is a village that dates between A.D. 1100 and 1300. The grave containing these human remains was found outside the village palisade. These human remains—a complete but poorly preserved skeleton—probably belong to a young adult male. No known individual was identified. The one associated funerary object is a greenstone celt found in the grave fill.

In 1968, human remains representing, at minimum, one individual were removed from Church Rockshelter No. 1 in Watauga County, NC. They were excavated by the landowner, who had found them near the surface of the ground and in a flexed position. The stratigraphic placement of these human remains and their relatively good condition suggest they date to the late precontact period (A.D. 1300-1500). These human remains were in the possession of the Appalachian State University biology department before being transferred to the Department of Anthropology, in 1990. The human remains—a nearly complete skeleton—belong to a female approximately 20 years old. No known individual was identified. No associated funerary objects are present.

In 2003, human remains representing, at minimum, one individual were removed from Church Rockshelter No. 1 in Watauga County, NC. They were excavated by Appalachian State University archeologists under the direction of Thomas Whyte from the 1968 excavation spoil pile. The human remains were scattered. Evidently, they had not been seen or recognized as human during the 1968 excavation. The human remains—a partial skeleton—belong to an infant. The infant may have been associated with the adult female removed from Church Rockshelter No. 1 in 1968. No known individual was identified. No associated funerary objects are present.

Sometime during the mid-20th century, human remains representing, at minimum, three individuals were removed from an unknown site or sites in one or more of the following counties: Ashe County, NC; Avery County, NC; Caldwell County, NC; Watauga County, NC; Wilkes County, NC; Carter County, TN; and Johnson County, TN. They were acquired by a private collector, and probably were purchased from private collections deriving from these counties. In 1982, these human remains were donated to the Appalachian Cultural Museum of Appalachian State University. In 2006, when the Appalachian Cultural Museum closed, the human remains were transferred to the Appalachian State University Department of Anthropology. The human remains—partial skeletons—belong to three adults. No known individuals were identified. No associated funerary objects are present.

Aboriginal Land

The human remains and associated funerary objects in this notice were removed from known geographic locations. These locations are the aboriginal lands of one or more Indian Tribes. The following information was used to identify the aboriginal land: a treaty.

Determinations

Pursuant to NAGPRA and its implementing regulations, and after consultation with the appropriate Indian Tribes, Appalachian State University has determined that:

• The human remains described in this notice represent the physical remains of six individuals of Native American ancestry.

• The one object described in this notice are reasonably believed to have been placed with or near individual human remains at the time of death or later as part of the death rite or ceremony.

• No relationship of shared group identity can be reasonably traced between the human remains and associated funerary objects and any Indian Tribe.

• The human remains and associated funerary objects described in this notice were removed from the aboriginal land of the Cherokee Nation; Eastern Band of Cherokee Indians; and the United Keetoowah Band of Cherokee Indians in Oklahoma.

Requests for Disposition

Written requests for disposition of the human remains and associated funerary objects in this notice must be sent to the Responsible Official identified in ADDRESSES. Requests for disposition may be submitted by:

1. Any one or more of the Indian Tribes identified in this notice.

2. Any lineal descendant, Indian Tribe, or Native Hawaiian organization not identified in this notice who shows, by a preponderance of the evidence, that the requestor is a lineal descendant or a culturally affiliated Indian Tribe or Native Hawaiian organization, or who shows that the requestor is an aboriginal land Indian Tribe.

Disposition of the human remains and associated funerary objects described in this notice to a requestor may occur on or after June 23, 2023. If competing requests for disposition are received, Appalachian State University must determine the most appropriate requestor prior to disposition. Requests for joint disposition of the human remains and associated funerary objects are considered a single request and not competing requests. Appalachian State University is responsible for sending a copy of this notice to the Indian Tribes identified in this notice.

Authority: Native American Graves Protection and Repatriation Act, 25 U.S.C. 3003, and the implementing regulations, 43 CFR 10.9 and 10.11.

Dated: May 17, 2023.
Melanie O'Brien,
Manager, National NAGPRA Program.

[FR Doc. 2023-11015 Filed 5-23-23; 8:45 am]

BILLING CODE 4312-52-P